DEPARTMENT OF COMMERCE

International Trade Administration

(A-570-805, A-428-807, A-412-805)

Sodium Thiosulfate from the People's Republic of China, Germany, and the United Kingdom: Final Results of Sunset Reviews and Revocation of Orders

AGENCY: Import Administration, International Trade Administration, Department of Commerce.

SUMMARY: On February 2, 2005, the Department of Commerce (“Department”) initiated the sunset reviews of the antidumping duty orders on sodium thiosulfate from the People's Republic of China, Germany and the United Kingdom (70 FR 5415). Because the domestic interested parties did not participate in these sunset reviews, the Department is revoking these antidumping duty orders.

EFFECTIVE DATE: March 7, 2005

FOR FURTHER INFORMATION CONTACT: Hilary Sadler, Esq., Office of Policy, Import Administration, International Trade Administration, U.S. Department of Commerce, 14th Street and Constitution Avenue, NW, Washington, DC 20230; telephone: (202) 482-4340.

SUPPLEMENTARY INFORMATION:

Background

On February 19, 1991, the Department issued antidumping duty orders on sodium thiosulfate from the People's Republic of China, Germany, and the United Kingdom (56 FR 2904). On July 1, 1999, the Department initiated sunset reviews on these orders and later published its notice of continuation of the antidumping duty orders. See Continuation of Antidumping Duty Orders: Sulfur Chemicals (Sodium Thiosulfate) from the Untied Kingdom, Germany and the People's Republic of China, 65 FR 11985 (March 7, 2000). On February 2, 2005, the Department initiated the second sunset reviews of these orders.

We did not receive a notice of intent to participate from domestic interested parties in any of these sunset reviews by the deadline dates. See 19 CFR 351.218(d)(1)(iii)(A). As a result, the Department determined that no domestic interested party intends to participate in the sunset reviews, and on October 21, 2004, we notified the International Trade Commission, in writing, that we intended to issue a final determination revoking these antidumping duty orders. See 19 CFR 351.218(d)(1)(iii)(B)(2).

Scope of the Orders:

The merchandise covered by these orders includes all grades of sodium thiosulfate, in dry or liquid from, used primarily to dechlorinate industrial waste water, from the People's Republic of China, Germany, and the United Kingdom. The chemical composition of sodium thiosulfate is Na2S203. Currently, subject merchandise is classified under item number 2832.30.1000 of the Harmonized Tariff Schedule of the United States (“HTS”). The above HTSUS subheading is provided for convenience and customs purposes. The written description remains dispositive.

Determination to Revoke

Pursuant to section 751(c)(3)(A) of the Act and 19 CFR 351.218(d)(1)(iii)(B)(3), if no domestic interested party files a notice of intent to participate, the Department shall issue a final determination revoking the order within 90 days after the initiation of the review. Because the domestic interested parties did not file a notice of intent to participate in these sunset reviews, the Department finds that no domestic interested party is participating in these sunset reviews. Therefore, consistent with 19 CFR 351.222(i)(2)(i) and section 751(c)(6)(A)(iii) of the Act, we are revoking these antidumping duty orders effective March 7, 2005, the fifth anniversary of the date the Department published the continuation of the antidumping duty orders.

Effective Date of Revocation

Pursuant to sections 751(c)(3)(A) and 751(c)(6)(A)(iii) of the Act and 19 CFR 351.222(i)(2)(i), the Department will instruct U.S. Customs and Border Protection to terminate the suspension of liquidation of the merchandise subject to these orders entered, or withdrawn from warehouse, on or after March 7, 2005. Entries of subject merchandise prior to the effective date of revocation will continue to be subject to suspension of liquidation and antidumping duty deposit requirements. The Department will complete any pending administrative reviews of these orders and will conduct administrative reviews of subject merchandise entered prior to the effective date of revocation in response to appropriately filed requests for review.

These five-year (sunset) reviews and notice are in accordance with sections 751(c) and 777(i)(1) of the Act.

Dated: May 2, 2005.
Joseph A. Spetrini,
Acting Assistant Secretary for Import Administration.

[FR Doc. E5-2231 Filed 5-6-05; 8:45 am]

BILLING CODE 3510-DS-S